DEPARTMENT OF LABOR

Employee Benefits Security Administration

217th Meeting of the Advisory Council on Employee Welfare and Pension Benefit Plans; Notice of Teleconference Meeting

Pursuant to the authority contained in Section 512 of the Employee Retirement Income Security Act of 1974 (ERISA), 29 U.S.C. 1142, the 217th open meeting of the Advisory Council on Employee Welfare and Pension Benefit Plans (also known as the ERISA Advisory Council) will be held via teleconference on August 29, 2023.

The meeting will begin at 10:00 a.m. (ET) and end at approximately 6:30 p.m. (ET), with a break for lunch. The purpose of the open meeting is for the ERISA Advisory Council to hear testimony from invited witnesses on the following topics: (1) Long-Term Disability Benefits and Mental Health Disparity, and (2) Recordkeeping in the Electronic Age. Descriptions of these topics are available on the ERISA Advisory Council's web page at https://www.dol.gov/agencies/ebsa/about-ebsa/about-us/erisa-advisory-council. The ERISA Advisory Council will also discuss and finalize views on section 2509.95-1 of title 29, Code of Federal Regulations (relating to the fiduciary standards under the Employee Retirement Income Security Act of 1974 when selecting an annuity provider for a defined benefit pension plan).

Instructions for public teleconference access will be available on the ERISA Advisory Council's web page at https://www.dol.gov/agencies/ebsa/about-ebsa/about-us/erisa-advisory-council approximately one week prior to the meeting.

Organizations or members of the public wishing to submit a written statement on any of the matters before the ERISA Advisory Council may do so on or before Tuesday, August 22, 2023, to Christine Donahue, Executive Secretary, ERISA Advisory Council. Statements should be transmitted electronically as an email attachment in text or pdf format to donahue.christine@dol.gov. Statements transmitted electronically that are included in the body of the email will not be accepted. Relevant statements received on or before Tuesday, August 22, 2023, will be included in the record of the meeting and made available through the EBSA Public Disclosure Room. No deletions, modifications, or redactions will be made to the statements received as they are public records. Warning: Do not include any personally identifiable or confidential business information that you do not want publicly disclosed.

Individuals or representatives of organizations interested in addressing the ERISA Advisory Council at the public meeting on the 2023 Council study topics: (1) Long-Term Disability Benefits and Mental Health Disparity, and (2) Recordkeeping in the Electronic Age must submit a written request to the Executive Secretary on or before Tuesday, August 22, 2023, via email to donahue.christine@dol.gov. Requests to address the ERISA Advisory Council on the 2023 Council study topics must include: (1) the name, title, organization, address, email address, and telephone number of the individual who would appear; (2) if applicable, the name of the organization(s) whose views would be represented; and (3) a concise summary of the statement that would be presented. Any oral presentation to the Council will be limited to ten minutes, but as indicated above, extended written statements may be submitted for the record on or before August 22, 2023.

Individuals who need special accommodations should contact the Executive Secretary on or before Tuesday, August 22, 2023, via email to donahue.christine@dol.gov or by telephoning (202) 693-8641.

For more information about the meeting, contact the Executive Secretary at the address or telephone number above.

Signed at Washington, DC, this 24th day of July, 2023.
Lisa M. Gomez,
Assistant Secretary, Employee Benefits Security Administration.

[FR Doc. 2023-16034 Filed 7-27-23; 8:45 am]

BILLING CODE 4510-29-P